FEDERAL MARITIME COMMISSION

Ocean Transportation Intermediary License; Revocations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 4014F.

Name: Air Cargo Centralam, Inc.

Address: 6750 NW 79th Avenue, Miami, FL 33166.

Date Revoked: October 13, 2000.

Reason: Failed to maintain a valid bond.

License Number: 12237N.

Name: Costa Rica Carriers, Inc.

Address: 3405-A NW 72nd Avenue, Suite #201, Miami, FL 33122.

Date Revoked: October 6, 2000.

Reason: Failed to maintain a valid bond.

License Number: 14753N.

Name: Freightbank Line, Inc.

Address: 19401 S. Vermont Avenue, Suite A204, Torrance, CA 90502.

Date Revoked: October 6, 2000.

Reason: Failed to maintain a valid bond.

License Number: 1748N.

Name: Mutual Export Corporation.

Address: 5 Becker Farm Road, Roseland, NJ 07068.

Date Revoked: September 9, 2000.

Reason: Failed to maintain a valid bond.

License Number: 8446N.

Name: Robo Co. dba Robo Express Co.

Address: 24309 Narbonne Avenue, Suite 200, Lomita, CA 90717.

Date Revoked: August 13, 2000.

Reason: Failed to maintain a valid bond.

License Number: 1483NF.

Name: Tokyo Express Co., Inc.

Address: 70 Charter Oak Avenue, San Francisco, CA 94124.

Date Revoked: July 13, 2000.

Reason: Failed to maintain a valid bond.

Sandra L. Kusumoto,
Director, Bureau of Consumer Complaints and Licensing.

[FR Doc. 00-28047 Filed 10-31-00; 8:45 am]

BILLING CODE 6730-01-P